DEPARTMENT OF HOMELAND SECURITY

Federal Emergency Management Agency

[Docket ID FEMA-2015-0001; Internal Agency Docket No. FEMA-B-1524]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 15, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1524, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: June 25, 2015.
Roy E. Wright,
Deputy Associate Administrator for Insurance and Mitigation, Department of Homeland Security, Federal Emergency Management Agency.

I. Watershed-based studies:

II. Non-watershed-based studies:

Community | Community map repository address
Cochise County, AZ and Incorporated Areas
Maps Available for Inspection Online at: http://www.fema.gov/preliminaryfloodhazarddata
Project:11-09-0875S Preliminary Dates: February 24, 2014 and February 27, 2015
City of Douglas | Department of Public Works, 425 East 10th Street, Douglas, AZ 85607.
Unincorporated Areas of Cochise County | Cochise County Flood Control District, 1415 West Melody Lane, Building F, Bisbee, AZ 85603.
Jackson County, MO and Incorporated Areas
Maps Available for Inspection Online at: http://www.fema.gov/preliminaryfloodhazarddata
Project:07-07-0023S Preliminary Date: October 10, 2014
City of Blue Springs | City Hall, 903 West Main Street, Blue Springs, MO 64015.
City of Buckner | Municipal Building, 315 South Hudson Street, Buckner, MO 64016.
City of Grain Valley | City Hall, 711 Main Street, Grain Valley, MO 64029.
City of Grandview | City Hall, 1200 Main Street, Grandview, MO 64030.
City of Greenwood | City Hall, 709 West Main Street, Greenwood, MO 64034.
City of Independence | Public Works Department, 111 East Maple Avenue, Independence, MO 64050.
City of Kansas City | City Hall, Planning and Development, 415 East 12th Street, 15th Floor, Kansas City, MO 64106.
City of Lake Lotawana | City Hall, 100 Lake Lotawana Drive, Lake Lotawana, MO 64086.
City of Lake Tapawingo | City Hall, 144 Anchor Drive, Lake Tapawingo, MO 64015.
City of Lee's Summit | City Hall, 220 Southeast Green Street, Lee's Summit, MO 64063.
City of Levasy | City Hall, 103 Pacific Street, Levasy, MO 64066.
City of Lone Jack | City Hall, 207 North Bynum Road, Lone Jack, MO 64070.
City of Oak Grove | City Hall, 1300 South Broadway Street, Oak Grove, MO 64075.
City of Raytown | City Hall, 10000 East 59th Street, Raytown, MO 64133.
City of Sugar Creek | City Hall, 103 South Sterling Avenue, Sugar Creek, MO 64054.
Unincorporated Areas of Jackson County | Jackson County Courthouse, 415 East 12th Street, Kansas City, MO 64106.
Village of River Bend | Village Hall, 3923 North Cobbler Road, River Bend, MO 64058.
Village of Sibley | City Hall, 208 Front Street, Sibley, MO 64088.
Village of Unity | Facilities Building, 1901 Northwest Blue Parkway, Unity, MO 64065.

[FR Doc. 2015-17607 Filed 7-16-15; 8:45 am]

BILLING CODE 9110-12-P